DEPARTMENT OF COMMERCE

International Trade Administration

[A-570-970]

Multilayered Wood Flooring From the People's Republic of China: Preliminary Results of the Changed Circumstances Review of Sino-Maple (JiangSu) Co., Ltd.

AGENCY: Enforcement and Compliance, International Trade Administration, Department of Commerce.

SUMMARY: On March 13, 2015, the Department of Commerce (the “Department”) initiated a changed circumstance review (“CCR”) of the antidumping duty (“AD”) order on multilayered wood flooring from the People's Republic of China (“PRC”) in response to a request from Sino-Maple (JiangSu) Co., Ltd. (“Sino-Maple”), an exporter of subject merchandise to the United States.¹ Pursuant to section 751(b) of the Tariff Act of 1930, as amended (“the Act”), and 19 CFR 351.216, the Department preliminarily determines that Sino-Maple is the successor-in-interest to Jiafeng Wood (Suzhou) Co., Ltd. (“Jiafeng”) for purposes of the AD order on multilayered wood flooring from the PRC and, as such, is entitled to Jiafeng's cash deposit rate with respect to entries of subject merchandise. We invite interested parties to comment on these preliminary results.

¹ See Initiation of Antidumping Duty Changed Circumstances Review: Multilayered Wood Flooring From the People's Republic of China, 80 FR 13328 (March 13, 2015) (Initiation Notice).

DATES: Effective: September 24, 2015.

FOR FURTHER INFORMATION CONTACT: Krisha Hill, AD/CVD Operations, Office IV, Enforcement and Compliance, International Trade Administration, U.S. Department of Commerce, 14th Street and Constitution Avenue NW., Washington, DC 20230; telephone: (202) 482-4037.

SUPPLEMENTARY INFORMATION:

Background

On December 23, 2014, Sino-Maple requested that the Department initiate an expedited CCR to confirm that Sino-Maple is the successor-in-interest to Jiafeng for purposes of determining AD liabilities.² For a complete description of events that followed the initiation of this review, see the Preliminary Decision Memorandum.³

² See Letter from Sino-Maple to the Department regarding, “Multilayered Wood Flooring from the PRC: Request of Sino-Maple (Jiangsu) Co., Ltd. and Jiafeng Wood (Suzhou) Co., Ltd. for Changed Circumstances Review” (December 23, 2014) (“CCR Request”).

³ See Memorandum to Ronald K. Lorentzen, Acting Assistant Secretary for Enforcement and Compliance, from Christian Marsh, Deputy Assistant Secretary for Antidumping and Countervailing Duty Operations, “Decision Memorandum for the Preliminary Results of the Antidumping Duty Changed Circumstances Review of Multilayered Wood Flooring from the People's Republic of China: Sino-Maple (JiangSu) Co., Ltd.” (“Preliminary Decision Memorandum”), dated concurrently with, and adopted by, this notice.

Based on this information, the Department initiated this CCR on March 13, 2015, explaining that, while there was sufficient evidence to initiate a CCR, the Department determined not to conduct its review on an expedited basis by publishing the preliminary results in conjunction with its notice of initiation. Specifically, we noted that the purported predecessor company, Jiafeng, was still in a 180-day liquidation period. We stated that we intended to issue additional questionnaires to Sino-Maple, as authorized by 19 CFR 351.221(b)(2), upon completion of the 180-day liquidation period, seeking evidence that Jiafeng has been terminated and that Jiafeng's liquidation was completed.⁴ On June 22, 2015, Sino-Maple submitted this evidence.⁵

⁴ See Initiation Notice, 80 FR 13329.

⁵ See Letter from Sino-Maple to the Department, regarding “Multilayered Wood Flooring from the PRC: Voluntary (Third) Supplemental Changed Circumstances Review Response of Sino-Maple (Jiangsu) Co., Ltd. and Jiafeng Wood (Suzhou) Co., Ltd.,” dated June 22, 2015.

Scope of the Investigation

The merchandise covered by the order includes multilayered wood flooring, subject to certain exceptions. Imports of the subject merchandise are provided for under the following subheadings of the Harmonized Tariff Schedule of the United States (“HTSUS”): 4412.31.0520; 4412.31.0540; 4412.31.0560; 4412.31.2510; 4412.31.2520; 4412.31.4040; 4412.31.4050; 4412.31.4060; 4412.31.4070; 4412.31.5125; 4412.31.5135; 4412.31.5155; 4412.31.5165; 4412.31.3175; 4412.31.6000; 4412.31.9100; 4412.32.0520; 4412.32.0540; 4412.32.0560; 4412.32.2510; 4412.32.2520; 4412.32.3125; 4412.32.3135; 4412.32.3155; 4412.32.3165; 4412.32.3175; 4412.32.3185; 4412.32.5600; 4412.39.1000; 4412.39.3000; 4412.39.4011; 4412.39.4012; 4412.39.4019; 4412.39.4031; 4412.39.4032; 4412.39.4039; 4412.39.4051; 4412.39.4052; 4412.39.4059; 4412.39.4061; 4412.39.4062; 4412.39.4069; 4412.39.5010; 4412.39.5030; 4412.39.5050; 4412.94.1030; 4412.94.1050; 4412.94.3105; 4412.94.3111; 4412.94.3121; 4412.94.3131; 4412.94.3141; 4412.94.3160; 4412.94.3171; 4412.94.4100; 4412.94.5100; 4412.94.6000; 4412.94.7000; 4412.94.8000; 4412.94.9000; 4412.94.9500; 4412.99.0600; 4412.99.1020; 4412.99.1030; 4412.99.1040; 4412.99.3110; 4412.99.3120; 4412.99.3130; 4412.99.3140; 4412.99.3150; 4412.99.3160; 4412.99.3170; 4412.99.4100; 4412.99.5100; 4412.99.5710; 4412.99.6000; 4412.99.7000; 4412.99.8000; 4412.99.9000; 4412.99.9500; 4418.71.2000; 4418.71.9000; 4418.72.2000; 4418.72.9500; and 9801.00.2500.

While HTSUS subheadings are provided for convenience and customs purposes, the written description of the subject merchandise is dispositive.

A complete description of the scope of the order is contained in the Preliminary Decision Memorandum. The Preliminary Decision Memorandum is a public document and is on file electronically via Enforcement and Compliance's Antidumping and Countervailing Duty Centralized Electronic Service System (ACCESS). ACCESS is available to registered users at http://access.trade.gov, and ACCESS is available to all parties in the Central Records Unit, room B8024 of the main Department of Commerce building. In addition, a complete version of the Preliminary Decision Memorandum can be accessed directly at http://enforcement.trade.gov/frn/index.html. The signed Preliminary Decision Memorandum and the electronic versions of the Preliminary Decision Memorandum are identical in content.

Methodology

In accordance with section 751(b)(1) of the Act, we are conducting this CCR based upon the information contained in Sino-Maple's submissions. In making a successor-in-interest determination, the Department typically examines several factors including, but not limited to, changes in: (1) Management; (2) production facilities; (3) supplier relationships; and (4) customer base.⁶ While no single factor or combination of factors will necessarily be dispositive, the Department generally will consider the new company to be the successor to the predecessor if the resulting operations of the successor are not materially dissimilar to that of its predecessor.⁷ Thus, if the record demonstrates that, with respect to the production and sale of the subject merchandise, the new company operates as the same business entity as the predecessor company, the Department may assign the new company the cash deposit rate of its predecessor.⁸ For a full description of the methodology underlying our conclusions, see the Preliminary Decision Memorandum.

⁶ See, e.g., Certain Activated Carbon From the People's Republic of China: Notice of Initiation of Changed Circumstances Review, 74 FR 19934, 19935 (April 30, 2009).

⁷ See, e.g., Notice of Initiation of Antidumping Duty Changed Circumstances Review: Certain Forged Stainless Steel Flanges from India, 71 FR 327, 327 (January 4, 2006).

⁸ See, e.g., Fresh and Chilled Atlantic Salmon From Norway; Final Results of Changed Circumstances Antidumping Duty Administrative Review, 64 FR 9979, 9980 (March 1, 1999).

Preliminary Determination of the Changed Circumstances Review

Based on the record evidence, we preliminarily determine that Sino-Maple is the successor-in-interest to Jiafeng because Sino-Maple operates materially the same as Jiafeng with respect to the subject merchandise, albeit in a new location. Specifically, we find that any changes that may have occurred after Jiafeng became Sino-Maple did not constitute material changes to management, supplier relationships, customer relationships, or ownership/legal structure with respect to the production and sale of the subject merchandise. A list of topics discussed in the Preliminary Decision Memorandum appears in the Appendix to this notice.

If the Department upholds these preliminary results in the final results, Sino-Maple will be assigned the cash deposit rate currently assigned to Jiafeng with respect to the subject merchandise (i.e., 13.74 percent). We will also instruct U.S. Customs and Border Protection to suspend liquidation of entries of multilayered wood flooring exported by Sino-Maple, effective on the publication date of the final results, at the AD cash deposit rate assigned to Jiafeng.

Public Comment

Interested parties may submit written comments by no later than 30 days after the date of publication of these preliminary results of review in the Federal Register.⁹ Rebuttals, limited to issues raised in the written comments, may be filed by no later than five days after the written comments are due.¹⁰ Parties that submit written comments and rebuttals are encouraged to submit with each argument: (1) A statement of the issue; (2) a brief summary of the argument; and (3) a table of authorities.¹¹ All briefs are to be filed electronically using ACCESS.¹² An electronically filed document must be received successfully in its entirety by ACCESS by 5:00 p.m. Eastern Time on the day on which it is due.¹³

⁹ See 19 CFR 351.309(c)(1)(ii).

¹⁰ See 19 CFR 351.309(d)(1).

¹¹ See 19 CFR 351.309(c)(2) & (d)(2).

¹² See 19 CFR 351.303(b) & (f).

¹³ See 19 CFR 351.303(b).

Any interested party may request a hearing to the Assistant Secretary of Enforcement and Compliance using ACCESS within 30 days of publication of this notice in the Federal Register.¹⁴ Hearing requests should contain the following information: (1) The party's name, address, and telephone number; (2) the number of participants; and (3) a list of the issues to be discussed. Oral presentations will be limited to issues raised in the briefs.¹⁵ If a request for a hearing is made, parties will be notified of the time and date for the hearing to be held at the U.S. Department of Commerce, 1401 Constitution Avenue NW., Washington, DC 20230.¹⁶

¹⁴ See 19 CFR 351.310(c).

¹⁵ Id.

¹⁶ See 19 CFR 351.310(d).

Final Results of the Review

In accordance with 19 CFR 351.216(e), the Department intends to issue the final results of this CCR not later than 270 days after the date on which this review was initiated.

Notification to Parties

The Department is issuing and publishing these preliminary results in accordance with sections 751(b)(1) and 777(i)(1) of the Act and 19 CFR 351.216 and 351.221.

Dated: September 17, 2015.
Ronald K. Lorentzen,
Acting Assistant Secretary for Enforcement and Compliance.

Appendix

List of Topics Discussed in the Preliminary Decision Memorandum

I. Summary

II. Background

III. Scope of the Order

IV. Preliminary Results of the Changed Circumstances Review

V. Recommendation

[FR Doc. 2015-24191 Filed 9-23-15; 8:45 am]

BILLING CODE 3510-DS-P